DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on February 15, 2000 (65 FR 7608).

DATES: Comments must be submitted on or before May 31, 2000. Comments were due April 17, 2000. No comments were received.

FOR FURTHER INFORMATION CONTACT: Christopher Krusa, Office of Maritime Labor, Training, and Safety, Maritime Administration, 400 Seventh Street, SW, Room 7302, Washington, DC 20590, telephone number 202-366-2648. Copies of this collection can also be obtained from that office.

SUPPLEMENTARY INFORMATION:

Maritime Administration

Title of Collection: “Information to Determine Seamen's Reemployment Rights—National Emergency.”

OMB Control Number: 2133-0526.

Type of Request: Approval of an existing information collection.

Affected Public: U.S. merchant seamen who have completed designated national service in time of war or national emergency and are seeking reemployment with a prior employer.

Form(s): None.

Abstract: MARAD is requesting approval of this information collection in an effort to implement provisions of the Maritime Security Act of 1996. These provisions amend the Merchant Marine Act, 1936, to grant reemployment rights and other benefits to certain merchant seamen serving on vessels used by the United States for a war, armed conflict, national emergency, or maritime mobilization need. This rule establishes the procedure for obtaining the necessary MARAD certification for reemployment rights and other benefits conferred by statute and MARAD's assistance in pursuing these statutory rights and benefits. This collection requires merchant seamen to provide documents indicating their period of employment and their merchant mariner's status. The information provided will allow MARAD to determine eligibility for reemployment rights when the employment is related to a designated national service.

Annual Estimated Burden Hours: 50 hours.

ADDRESSES: Send comments to the Office of Information and Regulatory Affairs, Office of Management and Budget, 725-17th Street, NW, Washington, DC 20503, Attention MARAD Desk Officer.

Comments are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is best assured of having its full effect if OMB receives it within 30 days of publication.

Dated: April 25, 2000.
Joel C. Richard,
Secretary, Maritime Administration.

[FR Doc. 00-10722 Filed 4-28-00; 8:45 am]

BILLING CODE 4910-81-P